DEPARTMENT OF THE INTERIOR

Bureau of Land Management

[CA-340-03-5101-ER-B171; CACA-44000]

Notice of Intent To Prepare a Plan Amendment and Environmental Impact Statement for Wind Energy; Ukiah Field Office, California

AGENCY: Bureau of Land Management.

ACTION: Notice of intent to prepare a plan amendment and Environmental Impact Statement (EIS) for Wind Energy; Ukiah Field Office, California.

SUMMARY: Pursuant to Section 102 (2)(C) of the National Environmental Policy Act of 1969, the Bureau of Land Management (BLM), Ukiah Field Office, will be directing the preparation of a plan amendment and EIS and conducting public scoping meetings in response to a right-of-way application filed by GE Wind Energy, LLC. GE Wind Energy proposes an array of wind turbines and ancillary facilities including buried power lines, access roads, an electric substation and transmission line interconnect in the Walker Ridge Area of Lake and Colusa Counties, California. BLM will assess the potential impacts of a proposed right-of-way for an array of approximately eighty (80) 1.5-megawatt wind turbines. The project area contains the public land bordered by Bear Valley to the east, State Highway 20 to the south, and Indian Valley Reservoir to the west.

The proposal is located in the Indian Valley Management Area the Clear Lake Management Framework Plan Update, 1984 for the Ukiah Field Office. This management plan does not address long-term management objectives for Walker Ridge and is silent on wind power development projects; thus, a plan amendment is required in accordance with 43 CFR 1610.5-5. Although BLM has tentatively scheduled to begin a Resource Management Plan (RMP) Revision in the fall of 2003, BLM has elected to accelerate this wind energy plan amendment in response to the need for alternative energy sources in California and in support of the President's energy policy. A final decision on the plan amendment is expected in 2004.

DATES: The public is invited to submit comments on the scope of the plan amendment and issues to be addressed in the EIS. Three (3) public scoping meetings will be held. The exact dates, times and locations for these meetings will be announced by BLM, published in local newspapers within 15 days in advance of the event, and posted on BLM's Web site at: http://www.ca.blm.gov. The three scoping meetings will be open houses; they will provide opportunities for the applicant and BLM to explain details of the project and gather information from interested individuals or groups. The “open houses” will start at 6 p.m. and end at 9 p.m. Starting at 7 p.m. the EIS process will be explained and an opportunity will be given for written comments and general concerns. Meetings are anticipated at the following locations: Sacramento, Colusa, and Clear Lake, California.

The comment period for scoping will commence with the publication of this notice. Those having concerns, issues, or alternatives they would like to see addressed in the EIS must respond with written comments within 45 days of the date of this notice. Comments concerning the Proposed Action and Alternatives, plan amendment, and EIS should address issues to be considered, planning criteria, feasible alternatives to examine, possible mitigation measures, and information relevant to or having a bearing on the Proposed Action. In addition, any persons wishing to be added to a mailing list of interested parties can call or write to BLM as described in this notice. Additional informational meetings may be conducted throughout the process to keep interested parties informed of progress of the EIS.

ADDRESSES: Information and a copy of the Notice of Intent can be obtained by contacting or visiting the following offices:

Bureau of Land Management, Ukiah Field Office, 2550 North State Street, Ukiah, CA 95482, Telephone: (707) 468-4000; or

Public Room, Bureau of Land Management, California State Office, 2800 Cottage Way, Sacramento, CA 95825, Telephone: (916) 978-4400; or

Tom Hurshman, Bureau of Land Management, 2505 South Townsend, Montrose, CO 81401, Telephone: (970) 240-5345.

A copy of the scoping notice and other relevant information concerning the status of the project may also be found on-line at: http://www.ca.blm.gov.

FOR FURTHER INFORMATION CONTACT: Tom Hurshman, BLM Project Manager, (970) 240-5345 or e-mail at tom_hurshman@co.blm.gov.

SUPPLEMENTARY INFORMATION: The Walker Ridge area is located in north central California, west of the Sacramento Valley and near the southern tip of the Coast Range. Walker Ridge is located north of Highway 20 between Bear Valley and Little Indian Valley at an elevation of approximately 3,000 feet. The proposed project area is accessible by the Walker Ridge Road, a BLM maintained road that runs north from its junction with State Highway 20. The proposed wind power development area application encompasses approximately 8,200 acres of public lands. On June 2, 2003, GE Wind Energy received a site testing and monitoring right-of-way grant from BLM to study the wind power potential of the project area for a period of three years. Five meteorological towers with anemometers to measure wind characteristics are currently installed on Walker Ridge. No private lands would be utilized for the project. The legal description of the land proposed for the wind power development project is available from the contact information in this notice.

Tentatively identified issues of concern may include: threatened, endangered, and sensitive species; visual resources; loss of wildlife habitat; land use conflicts; and avian mortality. An interdisciplinary approach will be used to develop the plan amendment in order to consider a variety of resource issues and concerns identified. Disciplines involved will include specialists with expertise in archaeology, wildlife, outdoor recreation, visual resources, biology, soils, and realty. BLM has preliminarily identified the following, possible planning criteria:

• Comply with applicable laws, Executive Orders, and regulations,

• Consider all alternatives in the context of their consistency with the President's National Energy Policy, BLM's Interim Wind Energy Development Policy, and State of California Renewable Energy Portfolio Standards.

The Plan Amendment and EIS will analyze the Proposed Action and the No Action Alternative. Other alternatives may include modifying proposed tower/turbine locations, road and power cable and line locations, rerouting linear electric power line right-of-way locations, as well as applying mitigating measures to reduce or eliminate impacts.

Dated: July 14, 2003.
Richard Burns,
Field Manager.

[FR Doc. 03-20464 Filed 8-11-03; 8:45 am]

BILLING CODE 4310-40-P